SMALL BUSINESS ADMINISTRATION

[Docket No. SBA 2011-0003]

Community Advantage Pilot Program

AGENCY: U.S. Small Business Administration (SBA).

ACTION: Notice of change to Community Advantage Pilot Program.

SUMMARY: On February 18, 2011, SBA published a notice and request for comments introducing the Community Advantage Pilot Program. In that notice, SBA modified or waived as appropriate certain regulations which otherwise apply to the 7(a) loan program for the Community Advantage Pilot Program. To support SBA's commitment to expanding access to capital for small businesses and entrepreneurs in underserved markets, SBA is issuing this notice to revise certain of these regulatory waivers.

DATES: This notice is effective September 12, 2011.

FOR FURTHER INFORMATION CONTACT: Grady B. Hedgespeth, Director, Office of Financial Assistance, U.S. Small Business Administration, 409 Third Street, SW., Washington, DC 20416; (202) 205-7562; grady.hedgespeth@sba.gov.

SUPPLEMENTARY INFORMATION: On February 18, 2011, SBA issued a notice and request for comments introducing the Community Advantage Pilot Program (“CA Pilot Program”) (76 FR 9626). Pursuant to the authority provided to SBA under 13 CFR 120.3 to suspend, modify or waive certain regulations in establishing and testing pilot loan initiatives, SBA temporarily waived certain regulations, which otherwise apply to 7(a) loans, for the CA Pilot Program. Specifically, SBA waived 13 CFR 120.420 through 120.435 because CA Lenders were prohibited from including CA loans in participant lender financings and other conveyances, including securitizations, participations and pledges. This prohibition, however, may restrict the ability of CA Lenders to obtain access to capital from commercial banks and warehouse lenders. Therefore, SBA is revising the February 18, 2011 notice to allow CA Lenders participating in the CA Pilot Program to pledge CA loans as collateral for certain lender financings that are approved by SBA, provided the CA Lender complies with all applicable SBA regulations. To accomplish this, SBA is no longer waiving the regulations at 13 CFR 120.420, 120.430 -120.431 (only with respect to pledges), and 120.434. While SBA is permitting CA Lenders to pledge CA loans as collateral for certain lender financings in accordance with the aforementioned regulations, SBA will not permit CA Lenders to include CA loans in securitizations, any loan sales or participations. Therefore, SBA continues to waive the regulations at 13 CFR 120.421 through 120.428, 120.432, 120.433 and 120.435, as stated in the February 18, 2011 notice. This notice does not affect a CA Lender's ability to sell the guaranteed portions of CA loans in the secondary market, as further described in the February 18, 2011 notice.

In addition to issuing this notice, SBA will modify the Community Advantage Pilot Program Loan Guaranty Agreement (SBA Form 750CA) to allow lenders to pledge CA loans as collateral for certain lender financings. SBA will make the revised SBA Form 750CA available to CA Lenders. All participants in the CA Pilot Program must execute the revised SBA Form 750CA and return it to SBA prior to pledging any CA loans.

All other SBA guidelines and regulatory waivers related to the CA Pilot Program remained unchanged.

SBA has provided more detailed guidance in the form of a participant guide which is available on SBA's Web site, http://www.sba.gov. SBA may also provide additional guidance, if needed, through SBA notices, which will also be published on SBA's Web site, http://www.sba.gov.

Questions on the CA Pilot Program may be directed to the Lender Relations Specialist in the local SBA district office. The local SBA district office may be found at http://www.sba.gov/about-offices-list/2.

Authority: 15 U.S.C. 636(a)(25) and 13 CFR 120.3.

Karen G. Mills,
Administrator.

[FR Doc. 2011-23244 Filed 9-9-11; 8:45 am]

BILLING CODE 8025-01-P